DEPARTMENT OF LABOR

Employment and Training Administration

[TA-W-63,832]

Carestream Health, Inc. Medical X-Ray Division Windsor, CO; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on September 11, 2008, applicable to workers of Carestream Health, Inc., X-Ray/Mammography Film Division, Windsor, Colorado. The notice was published in the Federal Register on September 24, 2008 (73 FR 55136).

At the request of the State agency, the Department reviewed the certification for workers of the subject firm. The workers are engaged in the production of medical x-ray film.

New information shows that the subject firm name was not identified in its entirety. The company official confirmed that the correct name of the subject firm should read “Carestream Health, Inc., Medical X-Ray Division, Windsor, Colorado”.

Based on this information, the Department is amending the certification to correctly identify the name of the subject firm and extend worker adjustment assistance eligibility to all workers of Carestream Health, Inc., Medical X-Ray Division, Windsor, Colorado.

The amended notice applicable to TA-W-63,832 is hereby issued as follows:

All workers of Carestream Health, Inc., Medical X-Ray Division, Windsor, Colorado who became totally or partially separated from employment on or after August 6, 2007, through September 11, 2010, are eligible to apply for adjustment assistance under Section 223 of the Trade Act of 1974, and are also eligible to apply for alternative trade adjustment assistance under Section 246 of the Trade Act of 1974.

Signed at Washington, DC, this 28th day of June, 2010.
Richard Church,
Certifying Officer, Division of Trade Adjustment Assistance.

[FR Doc. 2010-17455 Filed 7-16-10; 8:45 am]

BILLING CODE 4510-FN-P